DEPARTMENT OF HEALTH AND HUMAN SERVICES

Administration for Children and Families

Proposed Information Collection Activity; Comment Request

Proposed Project

Title: Head Start Facilities Construction, Purchase and Major Renovations.

OMB No.: 0970-0193.

Description: The Head Start Bureau is proposing to renew, without changes, the information collections activities for the regulations in 45 CFR part 1309. The part contains the administrative requirements applicable to Head Start and Early Head Start grantees, when applying for funding to purchase, renovate or construct Head Start program facilities. The regulations ensure that standard business practices are applied when acquiring real property and that federal interest is preserved in properties acquired with public funds. The regulations further ensure compliance with all other federal statues applicable to the expenditure of federal funds when acquiring real property.

Respondents: Head Start and Early Head Start programs are delegate agencies.

Annual Burden Estimates
Instrument | Number of respondents | Number of responses per respondent | Average burden hours per respondent | Total burden hours
Administrative Requirements | 200 | 1 | 41 | 8,200

Estimated Total Annual Burden Hours: 8,200.

In compliance with the requirements of Section 3506(c)(2)(A) of the Paperwork Reduction Act of 1995, the Administration for Children and Families is soliciting public comments on the specific aspects of the information collection described above. Copies of the proposed collection of information can be obtained and comments may be forwarded by writing to the Administration for Children and Families, Office of Information Services, 370 L'Enfant Promenade, SW., Washington, DC 20447, Attn: ACF Reports Clearance Officer. All Requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Bob Sargis,
Reports Clearance Officer.

[FR Doc. 2012-5421 Filed 3-6-12; 8:45 am]

BILLING CODE 4184-01-P